DEPARTMENT OF ENERGY

Federal Energy Regulatory Commission

[Docket No. RP00-573-000]

Southern Natural Gas Company; Notice of Refund Report

October 3, 2000.

Take notice that on September 27, 2000, Southern Natural Gas Company, as successor-in-interest to South Georgia Natural Gas Company (Southern Natural), tendered for filing a report of refunds totaling $551,679 to true up fuel over and under collection for the 15-month period ending July 31, 2000. These refunds are allocated among all shippers based on deliveries for the same 15-month period.

Southern Natural states that copies of the filing are being mailed to all shippers and interested state commissioners for the South Georgia facilities.

Any person desiring to be heard or to protest said filing should file a motion to intervene or a protest with the Federal Energy Regulatory Commission, 888 First Street, NE., Washington, DC 20426, in accordance with Sections 385.214 or 385.211 of the Commission's Rules and Regulations. All such motions or protests must be filed on or before October 11, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-25848 Filed 10-6-00; 8:45 am]

BILLING CODE 6717-01-M